DEPARTMENT OF DEFENSE

Department of the Navy

[Docket ID: USN-2022-HQ-0032]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by March 23, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Formative Research for the Adaptation of a Risky Drinking and Sexual Assault Prevention Program; OMB Control Number 0703-NSAP.

Type of Request: New collection.

Focus Groups and Post Survey

Number of Respondents: 60.

Responses per Respondent: 1.

Annual Responses: 60.

Average Burden per Response: 90 minutes.

Annual Burden Hours: 90.

In-Depth Interviews

Number of Respondents: 24.

Responses per Respondent: 1.

Annual Responses: 24.

Average Burden per Response: 60 minutes.

Annual Burden Hours: 24.

Total

Number of Respondents: 84.

Annual Responses: 84.

Annual Burden Hours: 114.

Needs and Uses: This information collection request corresponds to the project number MTEC-21-05-CrossCutting-012, funded by the Military Operational Medicine Research Program (MOMRP), awarded to the government partner Naval Health Research Center. It aligns with the Department of Defense instruction 6400.09, “DoD Policy on Integrated Primary Prevention of Self-Directed Harm and Prohibited Abuse or Harm” (effective 11 September 2020), which calls for research-based prevention efforts to equip service members to prevent sexual assault and related harm. The aim of this information collection is to collect feedback from military service members and behavioral health program staff on a sexual assault prevention program, Sexual Communication and Consent (SCC), originally developed for the U.S. Air Force Academy, so it can be adapted to be optimally relevant for additional service member and training academy audiences. This formative research is part of a larger collaborative study being conducted by RTI, Naval Health Research Center, and San Diego State University. The objective of the study is to modify and evaluate the cross-cutting effectiveness of the SCC program for service members when it is combined with an existing alcohol misuse prevention tool. As there are demonstrated associations between sexual assault and alcohol misuse for both perpetrators and victims of sexual assault, combining efforts derived from proven programs to prevent sexual assault and alcohol misuse has the potential to enhance program effectiveness and impact exponentially. The formative research for this specific information collection will lay the groundwork for future adaptation of the integrated sexual assault and alcohol misuse prevention training in additional military settings. Therefore, it is critical to maximizing the effectiveness of the integrated program. Respondents will include active duty Sailors and Marines, cadets from the United States Military Academy (USMA), and active duty leaders and program staff from sexual assault prevention and alcohol misuse prevention programs at Navy and Marine Corps sites, as well as USMA. This data collection effort includes focus groups and a brief survey for young enlisted personnel (N = 60), and in-depth interviews with military leaders and sexual assault and alcohol misuse prevention program staff members (N = 24) for a total sample of 84 individuals. The focus group questions solicit perspectives and recommendations for improving sexual assault and alcohol misuse prevention trainings in which they've previously participated, unique environmental factors related to sexual assault or alcohol misuse, relevance, and interest level of sample content from the integrated sexual assault and alcohol misuse training program. The brief survey supplements the focus group discussion by asking participants to quantitatively rate the sample material from the program shown in the focus group and provide demographic information that will be used to describe the sample. All focus group participants will be asked to complete the brief survey during the focus group session. The in-depth interviews query leaders and program staff perceptions of existing sexual assault and alcohol misuse prevention training, recommendations for improving existing programs, unique environmental factors related to sexual assault or alcohol misuse, and organizational perspectives on program implementation.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: February 14, 2023.
Aaron T. Siegel,
Alternate OSD Federal Register Liaison Officer, Department of Defense.

[FR Doc. 2023-03495 Filed 2-17-23; 8:45 am]

BILLING CODE 5001-06-P